DEPARTMENT OF ENERGY

Federal Energy Regulatory Commission

[Docket No. RP02-478-001]

Midwestern Gas Transmission Company; Notice of Compliance Filing

September 5, 2002.

Take notice that on August 30, 2002, Midwestern Gas Transmission Company (Midwestern) tendered for filing to become part of Midwestern's FERC Gas Tariff, Third Revised Volume No. 1, the following tariff sheets to become effective October 1, 2002:

Original Sheet No. 262.01

First Revised Sheet No. 263

Midwestern states that the purpose of this filing is to revise Midwestern's tariff to incorporate the administrative timeline for non-biddable releases, NAESB Standard 5.3.2, Version 1.5. This standard was inadvertently omitted from Midwestern's compliance filing, Docket No. RP02-478-000, to incorporate NAESB Version 1.5 Standards into its tariff. Midwestern is also making a housekeeping change to incorporate NAESB Standard 5.3.3 into its tariff.

Midwestern states that copies of this filing have been sent to all of Midwestern's contracted shippers and interested state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-23165 Filed 9-17-02; 8:45 am]

BILLING CODE 6717-01-P